CONSUMER PRODUCT SAFETY COMMISSION

[Docket No. CPSC-2022-0017]

Notice of Availability: Voluntary Standards Evaluation Under the Portable Fuel Container Safety Act of 2020

AGENCY: U.S. Consumer Product Safety Commission.

ACTION: Notice of availability.

SUMMARY: The Consumer Product Safety Commission (Commission or CPSC) is announcing the availability of a draft document titled, “Voluntary Standards Evaluation Under the Portable Fuel Container Safety Act of 2020.”

DATES: Submit comments by June 23, 2022.

ADDRESSES: You can submit comments, identified by Docket No. CPSC-2022-0017, by any of the following methods:

Electronic Submissions: Submit electronic comments to the Federal eRulemaking Portal at: https://www.regulations.gov. Follow the instructions for submitting comments. CPSC does not accept comments submitted by electronic mail (email), except through https://www.regulations.gov, and as described below. CPSC encourages you to submit electronic comments by using the Federal eRulemaking Portal, as described above.

Mail/hand delivery/courier/confidential Written Submissions: Submit comments by mail, hand delivery, or courier to: Division of the Secretariat, Consumer Product Safety Commission, 4330 East-West Highway, Bethesda, MD 20814; telephone: (301) 504-7479. If you wish to submit confidential business information, trade secret information, or other sensitive or protected information that you do not want to be available to the public, you may submit such comments by mail, hand delivery, or courier, or you may email them to: cpsc-os@cpsc.gov.

Instructions: All submissions must include the agency name and docket number. CPSC may post all comments without change, including any personal identifiers, contact information, or other personal information provided, to: https://www.regulations.gov. Do not submit through this website: Confidential business information, trade secret information, or other sensitive or protected information that you do not want to be available to the public. If you wish to submit such information, please submit it according to the instructions for mail/hand delivery/courier/confidential written submissions.

Docket: For access to the docket to read background documents or comments received, go to: https://www.regulations.gov, and insert the docket number, CPSC-2022-0017, into the “Search” box, and follow the prompts.

FOR FURTHER INFORMATION CONTACT: Andrew Lock, Fire Protection Engineer, Consumer Product Safety Commission, 5 Research Place, Rockville, MD 20850; telephone: (301) 987-2099; email: alock@cpsc.gov.

SUPPLEMENTARY INFORMATION: The Portable Fuel Container Safety Act of 2020 (PFCSA) requires the Commission, not later than June 27, 2023, to promulgate a final rule to require flame mitigation devices in portable fuel containers that impede the propagation of flame into the container. 15 U.S.C. 2056d(b)(1).¹ The PFCSA states, however, that the Commission is not required to promulgate a final rule if the Commission determines that the requirements for an exception relating to voluntary standards are met. 15 U.S.C. 2056d(b)(3)(A). Specifically, the Commission may rely on voluntary standards instead of the required rulemaking for a class of portable fuel containers within the scope of the Act if the following requirements are met:

¹ The Commission voted 4-0 to approve this notice.

• There is a voluntary standard for flame mitigation devices for those containers that impedes the propagation of flame into the container;

• The voluntary standard is or will be in effect not later than June 27, 2022; and

• The voluntary standard is developed by ASTM International or such other standard development organization that the Commission determines to have met the intent of the PFCSA.

15 U.S.C. 2056d(b)(3)(A).

If the Commission makes such a determination with respect to any voluntary standard, then the requirements of such voluntary standard shall be treated as a consumer product safety rule 180 days after publication of the Commission's determination in the Federal Register. 15 U.S.C. 2056d(b)(4).

The CPSC staff draft document, “Voluntary Standards Evaluation Under the Portable Fuel Container Safety Act of 2020,” ² provides staff's initial assessment and recommendations to the Commission regarding whether the relevant voluntary standards qualify for the exception from the rulemaking requirement in the PFCSA. The draft document is available on the Commission's website at: https://www.cpsc.gov/s3fs-public/2022-Fire-Safety-of-Portable-Fuel-Containers-Memo.pdf?VersionId=K_Tk.uklDYtld1o45_OHMHnqeHdrYCME and from the Commission's Division of the Secretariat at the location listed in the ADDRESSES section of this notice.

² This CPSC staff document has not been reviewed by, and does not necessarily reflect the views of, the Comission.

The Commission invites comment on the draft document, “Voluntary Standards Evaluation Under the Portable Fuel Container Safety Act of 2020,” and whether the Commission should determine that the voluntary standards discussed in that document meet the requirements for the exception from rulemaking in 15 U.S.C. 2056d(b)(3)(A). Comments should be submitted by June 23, 2022. Information on how to submit comments can be found in the ADDRESSES section of this notice.

Alberta E. Mills,
Secretary, Consumer Product Safety Commission.

[FR Doc. 2022-11094 Filed 5-23-22; 8:45 am]

BILLING CODE 6355-01-P